DEPARTMENT OF JUSTICE

Foreign Claims Settlement Commission

[OMB Number 1105-NEW]

Agency Information Collection Activities: Proposed Collection; Comments Requested

ACTION: Emergency 30-Day Notice of Information Collection Under Review: Collection of Information on Claims for Compensation for Physical and Emotional Injury, Death, and Commercial Claims Against the Government of Libya and Referred to the Foreign Claims Settlement Commission by the Department of State Legal Adviser.

The Department of Justice, Foreign Claims Settlement Commission (Commission) has submitted the following information collection request to the Office of Management and Budget (OMB) for review and approval in accordance with the Paperwork Reduction Act of 1995. The proposed information collection is published to obtain comments from the public and affected agencies. This proposed information collection was previously published in the Federal Register Volume 74, Number 38, pages 8988-8989, on February 27, 2009, allowing for a 60 day comment period.

The purpose of this notice is to allow for an additional 30 days for public comment until June 19, 2009. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) The title of the form/collection: Claims of U.S. Nationals Against Libya.

(3) The agency form number, if any, and the applicable component of the department sponsoring the collection: Form Number: FCSC 1-09. Foreign Claims Settlement Commission, Department of Justice.

(4) Affected public who will be asked or required to respond, as well as a brief abstract: Primary: Individuals and Business Entities. Other: None. Information will be used as a basis for determining eligibility of U.S. nationals with physical and emotional injury, death, and commercial claims for awards payable by the Department of Treasury out of funds provided pursuant to the U.S.-Libya Claims Settlement Agreement for certain terrorism-related claims against Libya, its agencies and instrumentalities, and officials and employees thereof, and referred to the Commission by the Department of State Legal Adviser.

(5) An estimate of the total number of respondents and the amount of time estimated for an average respondent to respond/reply: It is estimated that 175 individual respondents will complete the application in approximately two hours and 25 commercial respondents will complete the application in approximately forty hours.

(6) An estimate of the total public burden (in hours) associated with the collection: The estimated total annual public burden associated with this application is 1,350 hours.

If additional information is required contact: Lynn Bryant, Department Clearance Officer, United States Department of Justice, Justice Management Division, Policy and Planning Staff, Patrick Henry Building, Suite 1600, 601 D Street, NW., Washington, DC 20530.

Dated: May 15, 2009.
Lynn Bryant,
Department Clearance Officer, PRA, United States Department of Justice.

[FR Doc. E9-11729 Filed 5-19-09; 8:45 am]

BILLING CODE 4410-BA-P